CONSUMER PRODUCT SAFETY COMMISSION

16 CFR Part 1241

[CPSC Docket No. 2020-0023]

Safety Standard for Crib Mattresses; Correction

AGENCY: Consumer Product Safety Commission.

ACTION: Final rule; correction.

SUMMARY: On February 15, 2022, the U.S. Consumer Product Safety Commission (CPSC) promulgated a final rule establishing a safety standard for crib mattresses. The crib mattress rule incorporated by reference a voluntary standard for crib mattresses that had been published by ASTM International (ASTM) and provided a uniform resource locator (URL) allowing the public to link to ASTM's website to retrieve a read-only, free copy of ASTM's voluntary standard for crib mattresses. In this document, CPSC is correcting the URL for ASTM's website stated in the final rule.

DATES: This correction is effective on August 15, 2022.

FOR FURTHER INFORMATION CONTACT: Alberta E. Mills, Division of the Secretariat, U.S. Consumer Product Safety Commission, 4330 East West Highway, Bethesda, Maryland 20814, telephone: 301-504-7479; email: cpsc-os@cpsc.gov.

SUPPLEMENTARY INFORMATION: The Commission's regulation at 16 CFR part 1241, titled “Safety Standard for Crib Mattresses,” provides a URL to access the voluntary standard incorporated by reference into CPSC's mandatory standard. That voluntary standard, ASTM F2933-21, Standard Consumer Safety Specification for Crib Mattresses (approved on June 15, 2021) (ASTM F2933-21), will be available for viewing free of charge on the ASTM website once the rule becomes effective on August 15, 2022. 87 FR 8640 (Feb. 15, 2022). Section 1241.2(a) of the Safety Standard for Crib Mattresses states: “Once incorporated by reference, you may review a read-only copy of ASTM F2933-21 at http://www.astm.org/READINGROOM/.” 87 FR 8674. This URL is incorrect, and the public should be directed instead to: https://www.astm.org/READINGLIBRARY/. Accordingly, the Commission issues this final rule to update 16 CFR 1241.2(a) with the correct URL citation for the ASTM reading library containing voluntary standards incorporated by reference into regulations. This document does not make any substantive changes to the final rule.

Correction

In FR Doc. 2022-02414 appearing on page 8640 in the Federal Register of Tuesday, February 15, 2022, the following correction is made:

§ 1241.2 [Corrected]

1. On page 8674, in the first column, in § 1241.2, in paragraph (a), remove the term “http://www.astm.org/READINGROOM/” and add “https://www.astm.org/READINGLIBRARY/” in its place.

List of Subjects in 16 CFR Part 1241

Consumer protection, Imports, Incorporation by reference, Infants and children, Labeling, Law enforcement, Mattresses.

Alberta E. Mills, Secretary,
United States Consumer Product Safety Commission.

[FR Doc. 2022-14649 Filed 7-8-22; 8:45 am]

BILLING CODE 6355-01-P